DEPARTMENT OF AGRICULTURE

Forest Service

Notice of New Recreation Fee

AGENCY: Prescott National Forest, Southwestern Region, USDA Forest Service.

ACTION: Notice of New Recreation Fee.

SUMMARY: The Prescott National Forest is proposing to charge a fee at the new Eagle Ridge Group Campground near Prescott, Arizona, constructed in 2011. Eagle Ridge Group Campground has two sites with the following proposed fees: (1) Osprey recreation fee is proposed at $75/night for up to 50 persons or $125/night for up to 75 persons; (2) Peregrine recreation fee is proposed at $50/night for 1-25 persons. Rental of other facilities on the Prescott National Forest and other Arizona National Forests has shown that publics appreciate and enjoy the availability of group rental facilities. Funds from the fee revenue will be used for the continued operation and maintenance of Eagle Ridge Group Campground.

DATES: Send any comments about these fee proposals by October 18, 2013 so comments can be compiled, analyzed and shared with the Bureau of Land Management Arizona Recreation Resource Advisory Council (R-RAC). New fees are proposed to begin in April 2014.

ADDRESSES: Forest Supervisor, Prescott National Forest, 344 S. Cortez St, Prescott, Arizona, 86303.

FOR FURTHER INFORMATION CONTACT: Susan Johnson, West Zone Recreation Program Manager, Prescott National Forest, 928-443-8075.

SUPPLEMENTARY INFORMATION: The Federal Recreation Lands Enhancement Act (Title VII, Pub. L. 108-447) directed the Secretary of Agriculture to publish a six month advance notice in the Federal Register whenever new recreation fee areas are established.

This new fee will be reviewed by the Bureau of Land Management Arizona Recreation Resource Advisory Council (RRAC) prior to final decision and implementation by the Regional Forester, Southwestern Region, USDA Forest Service.

The Prescott National Forest currently has three other group campground facilities. These group campgrounds are reserved regularly throughout the recreation season. The public has indicated a desire for additional developed group camping opportunities on the Prescott National Forest.

A market comparison indicates that the $50-$125 overnight fee is both reasonable and acceptable for this type of recreation opportunity.

Forest visitors can reserve Osprey or Peregrine Sites at Eagle Ridge Group Campground by contacting the National Recreation Reservation Service, at www.recreation.gov or by calling 1-877-444-6777. The National Recreation Reservation Service charges a $9 fee for internet reservations and $10 fee for phone reservations.

Dated: July 31, 2013.
Tom Torres,
Acting Prescott National Forest Supervisor.

[FR Doc. 2013-19047 Filed 8-6-13; 8:45 am]

BILLING CODE 3410-11-P